DEPARTMENT OF ENERGY

Federal Energy Regulatory Commission

[Docket No. OR19-23-000]

TransMontaigne Partners L.P., Metroplex Energy, Inc. v. Colonial Pipeline Company; Notice of Complaint

Take notice that on May 1, 2019, pursuant to sections 3, 6, 13(1), and 15(1) of the Interstate Commerce Act,¹ Rule 206 of the Rules of Practice and Procedure of the Federal Energy Regulatory Commission (Commission),² and Rules 343.1(a) and 343.2(c) of the Commission's Procedural Rules Applicable to Oil Pipeline Proceedings,³ TransMontaigne Partners L.P. and Metroplex Energy, Inc. (collectively, Complainants) filed a formal complaint against Colonial Pipeline Company (Colonial or Respondent) challenging the lawfulness of the rate structure and terms and conditions of service by Colonial for transportation of refined petroleum products, including those practices contained in Colonial's FERC Tariff No. 99.46.0; Colonial's FERC Tariff No. 98.37.0; and Colonial's Shipper Manual, as more fully explained in the complaint.

¹ 49 U.S.C. App. 3, 6, 13(1), and 15(1).

² 18 CFR 385.206 (2018).

³ 18 CFR 343.1(a) and 343.2(c) (2018).

The Complainant certify that a copy of the complaint was served on the contacts for the Respondent as listed on the official service list.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for electronic review in the Commission's Public Reference Room in Washington, DC There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time May 31, 2019.

Dated: May 3, 2019.
Kimberly D. Bose,
Secretary.

[FR Doc. 2019-09709 Filed 5-10-19; 8:45 am]

BILLING CODE 6717-01-P